ENVIRONMENTAL PROTECTION AGENCY

40 CFR Part 75

Continuous Emission Monitoring

CFR Correction

In Title 40 of the Code of Federal Regulations, Parts 72 to 80, revised as of July 1, 2015, on page 223, in § 75.16, paragraphs (b)(1)(ii)(A) and (b)(1)(ii)(B) are removed.

[FR Doc. 2016-04435 Filed 2-29-16; 8:45 am]

BILLING CODE 1505-01-D